NATIONAL CREDIT UNION ADMINISTRATION

Agency Information Collection Activities: Submission to OMB for Extension of a Currently Approved Information Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until March 29, 2007.

ADDRESSES: Interested parties are invited to submit written comments to NCUA Clearance Officer or OMB Reviewer listed below:

Clearance Officer: Mr. Neil McNamara, National Credit Union Administration, 1775 Duke Street, Alexandria, Virginia 22314-3428, Fax No. 703-837-2861, E-mail: OCIOmail@ncua.gov.

OMB Reviewer: NCUA Desk Officer, Office of Management and Budget, Room 10226, New Executive Office Building, Washington, DC 20503.

FOR FURTHER INFORMATION CONTACT: Requests for additional information or a copy of the information collection request, should be directed to Tracy Sumpter at the National Credit Union Administration, 1775 Duke Street, Alexandria, VA 22314-3428 or at (703) 518-6444.

SUPPLEMENTARY INFORMATION: Proposal for the following collection of information:

OMB Number: 3133-0155.

Form Numbers: CLF-8700 CLF-8705 CLF-8706 NCUA-7005 CLF-10.

Type of Review: Extension of a currently approved collection.

Title: Central Liquidity Facility group/agent membership and loan activity forms.

Description: Forms used in conjunction with agent member's request for facility advances, to request agent membership in the Central Liquidity Facility and/or to establish terms of relationship between credit unions, agent members and agent group representatives.

Respondents: Credit unions.

Estimated No. of Respondents/Recordkeepers: 151.

Estimated Burden Hours per Response: 36.55 minutes.

Frequency of Response: Reporting and other (once).

Estimated Total Annual Burden Hours: 92.

Estimated Total Annual Cost: none.

By the National Credit Union Administration Board on February 20, 2007.
Mary Rupp,
Secretary of the Board.

[FR Doc. E7-3375 Filed 2-26-07; 8:45 am]

BILLING CODE 7535-01-P